DEPARTMENT OF LABOR

Office of the Secretary

[Secretary's Order—02-2008]

Delegation of Authority and Assignment of Responsibilities for Compliance Assistance Activities

1. Purpose. Delegation of authority and assignment of responsibilities for compliance assistance activities.

2. Authority. This Order is issued pursuant to 29 U.S.C. 551 et seq.; 5 U.S.C. 301; Reorganization Plan N. 6 of 1950 (5 U.S.C. Appendix 1); the Regulatory Flexibility Act, as amended by the Small Business Regulatory Enforcement Fairness Act [see 5 U.S.C. 601 et seq. and 15 U.S.C. 657]; Executive Order 12866, “Regulatory Planning and Review” (September 30, 1993), as amended by Executive Order 13258 (February 26, 2002) and Executive Order 13422 (January 23, 2007); and Executive Order 13272, “Proper Consideration of Small Entities in Agency Rulemaking” (August 13, 2002).

3. Directives Affected. This Order does not affect the authorities and responsibilities assigned by any other Secretary's Order, unless otherwise expressly so provided in this or another Order.

4. Background. As a complement to its enforcement responsibilities, the Department of Labor (DOL) is committed to providing compliance assistance to help the regulated community better understand and comply with DOL laws and regulations that protect the wages, health benefits, retirement security, safety and health of America's workforce.

The Department's regulatory agencies have a long history of providing compliance assistance and are continually finding innovative ways to assist employers, workers, labor union officers and members, retirees, and job applicants in understanding their rights and responsibilities under the laws and regulations within the Department's purview. DOL agencies use a variety of strategies, programs and tools to help educate the regulated community on these complex legal requirements. Examples of such initiatives include OSHA's office dedicated to assisting small businesses, MSHA's Small Mine Office which provides safety and health assistance to small mines, Wage and Hour's YouthRules! Campaign, cross-agency collaborations on EBSA's Health Benefits Education Campaign, and a myriad of targeted outreach, education and training programs. These agency efforts are complemented by the many Department-wide compliance assistance resources such as the Employment Law Guide; the confidential toll-free information line, 1-866-4-USA-DOL; the DOL compliance assistance Web site, http://www.dol.gov/compliance; and the elaws Advisors which cover many of DOL's most important employment laws. These easy-to-access compliance resources provide clear answers to questions about laws and regulations dealing with pay and leave, workplace safety, health and pension benefits, and veterans' reemployment rights.

DOL has long recognized that compliance assistance, along with strong enforcement, is a powerful tool that helps DOL fulfill its mission to foster and promote the welfare of the job seekers, wage earners, and retirees. The two-pronged strategy of strong enforcement coupled with compliance assistance has worked. For example, workplace injury and illness rates continue to decline and incentive programs like EBSA's Voluntary Fiduciary Correction Program, which has shown a significant impact on compliance and has benefited workers through the restoration of millions of dollars in plan assets and payment of additional benefits, have had a positive impact on compliance.

The Department also recognizes that compliance assistance does not replace, or in any way detract from, strong enforcement. Rather, compliance assistance complements enforcement efforts by allowing DOL to focus resources on those employers who endanger the safety and health of workers, jeopardize pension security, fail to pay the minimum wage or overtime, or engage in other unfair and illegal workplace practices.

Compliance assistance is an essential and integral part of how the Department conducts business and fulfills its mission. In order to prevent accidents and violations of wage, safety, employee benefits, and other laws, the Department must offer strong, effective compliance assistance programs. Workers, retirees, unions, employers and other organizations must have access to clear, accurate information on the laws enforced by DOL. The ultimate goal of the Department's compliance assistance activities is to protect America's workforce by improving compliance with employment laws and regulations.

Under this Order, the Assistant Secretary for Policy has been delegated the responsibility of assuring the full, effective, and resourceful implementation of the Department's compliance assistance programs.

5. Delegation of Authority and Assignment of Responsibility.

The Assistant Secretary for Policy is delegated authority and assigned responsibility for:

1. Advising and assisting the Secretary of Labor and the Deputy Secretary of Labor in the development and formulation of standards, policies, and programs related to compliance assistance. Also, with the assistance of the Director of the Office of Compliance Assistance Policy, the Assistant Secretary shall provide analysis and advice on policies and programs related to developing, coordinating, implementing and institutionalizing compliance assistance initiatives, and reviewing agency compliance assistance plans.

a. The Director shall develop, implement, manage and coordinate Departmental compliance assistance policies, initiatives and programs, including Department-wide cross-cutting initiatives. The Director shall also identify and promote best practices and provide leadership and coordination in creating Departmental compliance assistance tools such as small business guides and the elaws Advisors (Employment Laws Assistance for Workers and Small Businesses).

b. The Director shall work with DOL agencies' Compliance Assistance Liaisons to obtain their assistance in reviewing, developing, coordinating and advancing all major Department or agency compliance assistance initiatives.

c. The Director shall provide technical advice and assistance to agencies on planning, developing and implementing compliance assistance policies, tools, initiatives and programs.

2. Coordinating with other agencies having responsibilities affecting DOL-wide cross-cutting compliance assistance initiatives.

3. Keeping the Secretary and the Deputy Secretary fully informed on the results of DOL's compliance assistance efforts.

4. In coordination with the Office of Small Business Programs, acting as the Department's liaison with the Small Business Administration, including the Office of the National Ombudsman. The Director of Compliance Assistance Policy shall be the Department's point of contact between the Department and small businesses pursuant to the Small Business Paperwork Relief Act of 2002 (SBPRA) and shall be responsible for providing the list of DOL compliance assistance resources consistent with the Small Business Regulatory Enforcement Fairness Act of 1996 (SBREFA).

5. Performing any additional duties that may be assigned by the Secretary.

B. DOL Agency heads are responsible for planning, developing and implementing compliance assistance initiatives, programs and policies relating to the mission of their respective agencies, including:

1. Developing annual compliance goals, timetables and objectives for their agencies and submitting their Annual Compliance Assistance Plans to the Policy Planning Board for review and approval, where applicable. These plans identify major programs or initiatives the agency will focus on during the coming fiscal year.

2. Planning and developing compliance assistance tools (such as elaws Advisors), programs or activities to inform the public about the agency's laws, policies, programs and activities.

3. Planning, preparing and producing a wide range of informational materials designed to effectively and efficiently inform the public about the agency's responsibilities and functions, as well as the public's rights and responsibilities; and producing all such materials in accordance with established policies, procedures, guidelines and standards.

4. Coordinating with the Office of the Assistant Secretary for Policy (OASP) on compliance assistance policies, programs and activities and appointing one or more Compliance Assistance Liaisons to work with the Office of the Compliance Assistance Policy to implement and institutionalize DOL compliance assistance initiatives, identify and promote best practices, and participate in DOL-wide compliance assistance programs.

5. Ensuring that reports requested by OASP concerning the achievement of the objectives of this order are accurate and submitted in a timely manner.

6. In consultation with the Office of the Solicitor and OASP, fulfilling the requirements of the Regulatory Flexibility Act, as amended by SBREFA and related laws, including appropriate coordination with small entities in the development of rules, production of plain language compliance guides, and responding to requests for information.

C. The Assistant Secretary for Administration and Management is responsible for promoting and assisting the agencies with agency and individual performance elements related to compliance assistance initiatives, programs and policies appropriate to the agencies' respective missions.

D. The Solicitor of Labor is assigned responsibility for providing legal advice and assistance to all Department of Labor officials relating to implementation and administration of all aspects of this Order.

E. The Assistant Secretary for Public Affairs is assigned responsibility for:

1. Assisting agencies in planning, preparing and producing informational materials designed to inform the public about each agency's responsibilities and functions, as well as the public's rights and responsibilities.

2. Working with OASP to educate the public about DOL-wide compliance assistance programs, initiatives and tools.

6. Redelegation of Authority. The authorities delegated in this Order may be redelegated.

7. Effective Date. This Order is effective immediately.

Dated: June 12, 2008.
Elaine L. Chao,
Secretary of Labor.

[FR Doc. E8-13751 Filed 6-17-08; 8:45 am]

BILLING CODE 4510-23-P